DEPARTMENT OF COMMERCE

National Oceanic and Atmospheric Administration

ENVIRONMENTAL PROTECTION AGENCY

Coastal Nonpoint Pollution Control Program: Proposed Findings Documents, Environmental Assessments, and Findings of No Significant Impact

AGENCY: National Oceanic and Atmospheric Administration, U.S. Department of Commerce, and the U.S. Environmental Protection Agency.

ACTION: Notice of availability of proposed findings documents, environmental assessments, and findings of no significant impact on approval of coastal nonpoint pollution control programs for Georgia, Texas and Ohio.

SUMMARY: Notice is hereby given of the availability of the Proposed Findings Documents, Environmental Assessments, and Findings of No Significant Impact for Georgia, Texas, and Ohio. Coastal states and territories were required to submit their coastal nonpoint programs to the National Oceanic and Atmospheric Administration (NOAA) and the U.S. Environmental Protection Agency (EPA) for approval. The Findings Documents were prepared by NOAA and EPA to provide the rationale for the agencies' decision to approve each state and territory coastal nonpoint pollution control program. Section 6217 of the Coastal Zone Act Reauthorization Amendments (CZARA), 16 U.S.C. section 1455b, requires states and territories with coastal zone management programs that have received approval under section 306 of the Coastal Zone Management Act to develop and implement coastal nonpoint programs. The Environmental Assessments were prepared by NOAA, pursuant to the National Environmental Policy Act (NEPA), 42 U.S.C. sections 4321 et seq., to assess the environmental impacts associated with the approval of the coastal nonpoint pollution control program submitted to NOAA and EPA by Georgia, Texas, and Ohio.

NOAA and EPA have proposed to approve, with conditions, the coastal nonpoint programs submitted by Georgia, Texas and Ohio. The requirements of 40 CFR Parts 1500-1508 (Council on Environmental Quality (CEQ) regulations to implement the National Environmental Policy Act) apply to the preparation of these Environmental Assessments. Specifically, 40 CFR section 1506.6 requires agencies to provide public notice of the availability of environmental documents. This notice is part of NOAA's action to comply with this requirement.

Copies of the proposed Findings Documents, Environmental Assessments, and Findings of No Significant Impact may be found on the NOAA website at http://www.ocrm.nos.noaa.gov/czm/6217/ or may be obtained upon request from: Joseph Flanagan, Coastal Programs Division (N/ORM3), Office of Ocean and Coastal Resource Management, NOS, NOAA, 1305 East-West Highway, Silver Spring, MD 20910, phone (301) 713-3155, extension 201, e-mail joseph.flanagan@noaa.gov.

DATES: Individuals or organizations wishing to submit comments on the proposed Findings or Environmental Assessments should do so by October 29, 2001.

ADDRESSES: Comments should be made to: John King, Acting Chief, Coastal Programs Division (N/ORM3), Office of Ocean and Coastal Resource Management, NOS, NOAA, 1305 East-West Highway, Silver Spring, MD 20910, phone (301) 713-3155 extension 195, e-mail john.king@noaa.gov.

FOR FURTHER INFORMATION CONTACT: For Georgia and Texas, Chris G. Rilling, Coastal Programs Division (N/ORM3), Office of Ocean and Coastal Resource Management, NOS, NOAA, 1305 East-West Highway, Silver Spring, MD 20910, phone (301) 713-3155, extension 198, e-mail chris.rilling@noaa.gov; for Ohio, Keelin S. Kuipers, Coastal Programs Division (N/ORM3), Office of Ocean and Coastal Resource Management, NOS, NOAA, 1305 East-West Highway, Silver Spring, MD 20910, phone (301) 713-3155, extension 175, e-mail keelin.kuipers@noaa.gov.

Federal Domestic Assistance Catalog 11.419 Coastal Zone Management Program Administration.
Dated: September 21, 2001.
Margaret A. Davidson,
Acting Assistant, Administrator for Ocean Services and Coastal Zone Management, National Oceanic and Atmospheric Administration.
G. Tracy Mehan III,
Assistant Administrator, Office of Water, Environmental Protection Agency.

[FR Doc. 01-24392 Filed 9-27-01; 8:45 am]

BILLING CODE 3510-08-M